DEPARTMENT OF LABOR

Office of the Assistant Secretary for Veterans' Employment and Training

President's National Hire Veterans Committee; Notice of Open Meeting

The President's National Hire Veterans Committee was established under 38 U.S.C. 4100 note Public Law 107-288, Jobs For Veterans Act, to furnish information to employers with respect to the productivity advantages afforded by hiring qualified veterans and disabled veterans, and to encourage employer participation in the Career One Stop service system and other means.

The President's National Hire Veterans Committee will meet on Thursday, October 21, 2004, beginning at 8:30 a.m. in the Radisson Hotel and Conference Center, 12600 Roosevelt Blvd., St. Petersburg, Florida 33716.

The committee will discuss raising employer awareness of the advantages of hiring veterans.

Signed at Washington, DC, this 5th day of October, 2004.
Frederico Juarbe Jr.,
Assistant Secretary of Labor for Veterans' Employment and Training.

[FR Doc. 04-23133 Filed 10-14-04; 8:45 am]

BILLING CODE 4510-79-P